ENVIRONMENTAL PROTECTION AGENCY

[ER-FRL-8586-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080288, ERP No. DS-NOA-E91023-00, Amendment 16 to the Fishery Management Plan for the Snapper Grouper Fishery, Additional Information to Analyze Four New Management Measures Alternatives for Gag and Vermillion Snapper, Implementation, South Atlantic Region.

Summary: While EPA has no objections to the proposed action, EPA did request clarification of the SEDAR data for the vermillion snapper. Rating LO.

EIS No. 20080303, ERP No. DS-USN-K11094-00, Developing Home Port Facilities for Three NIMITZ-Class Aircraft Carriers in Support of the U.S. Pacific Fleet, New Circumstances and Information to Supplements (the 1999 FEIS) Coronado, CA.

Summary: EPA does not object to the proposed project. Rating LO.

Final EISs

EIS No. 20080324, ERP No. F-BLM-J65331-WY, Kemmerer Field Office Planning Area, Resource Management Plan, Implementation, Lincoln, Sweetwater and Uinta Counties, WY.

Summary: No formal comment letter was sent to the preparing agency.

EIS No. 20080325, ERP No. F-NRC-E06025-NC, Generic—License Renewal of Nuclear Plants (GEIS) Regarding Shearon Harris Nuclear Power Plant, Unit 1, Plant-Specific Supplement 33 to NUREG-1437, Wake County, NC.

Summary: EPA continues to have environmental concerns about radiological monitoring of plant effluents, and storage and disposition of radioactive waste.

Dated: September 30, 2008.
Robert W. Hargrove,
Director, NEPA Compliance Division, Office of Federal Activities.

[FR Doc. E8-23389 Filed 10-2-08; 8:45 am]

BILLING CODE 6560-50-P